NATIONAL AERONAUTICS AND SPACE ADMINISTRATION

48 CFR Part 1852

NASA Federal Acquisition Regulation Supplement

AGENCY: National Aeronautics and Space Administration.

ACTION: Technical amendments.

SUMMARY: NASA is making technical amendments to the NASA FAR Supplement (NFS) to provide needed editorial changes.

DATES: Effective: December 4, 2015.

FOR FURTHER INFORMATION CONTACT: Manuel Quinones, NASA, Office of Procurement, Contract and Grant Policy Division, via email at manuel.quinones@nasa.gov, or telephone (202) 358-2143.

SUPPLEMENTARY INFORMATION:

I. Background

As part NASA's retrospective review of existing regulations pursuant to section 6 of Executive Order 13563, Improving Regulation and Regulatory Review, NASA conducted a review of its regulations and published a final rule in the Federal Register on March 12, 2015 (80 FR 12946). As published, this rule contains errors due to inadvertent omissions. A summary of changes follows:

• Section 1852.217-71 is revised to correct the clause date from “MAY 2000” to “APR 2015.”

• Section 1852.233-70 is revised to correct the zip code and the provision date.

List of Subject in 48 CFR Part 1852

Government procurement.

Manuel Quinones,
NASA FAR Supplement Manager.

Accordingly, 48 CFR part 1852 is amended as follows:

PART 1852—SOLICITATION PROVISIONS AND CONTRACT CLAUSES

1. The authority citation for part 1852 continues to read as follows:

Authority: 51 U.S.C. 20113(a) and 48 CFR chapter 1.

1852.217-71 [Amended]

2. Amend section 1852.217-71 by removing “MAY 2000” and adding “APR 2015” in its place.

1852.233-70 [Amended]

3. Amend section 1852.233-70 by—

a. Removing “JUL 2015” and adding “DEC 2015” in its place; and

b. In paragraph (c), removing “20456-001” and adding “20546-001” in its place.

[FR Doc. 2015-30689 Filed 12-3-15; 8:45 am]

BILLING CODE 7510-13-P